DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meeting be announced in the Federal Register.

DATES: Thursday, April 3, 2003, 9 a.m.-5 p.m., Friday, April 4, 2003, 8:30 a.m.-4 p.m.

ADDRESSES: West Coast Ridpath Hotel, 515 Sprague Avenue, Spokane, WA. Phone: (509) 838-2711, Fax: (509) 747-6970.

FOR FURTHER INFORMATION CONTACT: Yvonne Sherman, Public Involvement Program Manager, Department of Energy Richland Operations Office, 825 Jadwin, MSIN A7-75, Richland, WA, 99352; Phone: (509) 376-6216; Fax: (509) 376-1563.

SUPPLEMENTARY INFORMATION: Purpose of the Board: The purpose of the Board is to make recommendations to DOE and its regulators in the areas of environmental restoration, waste management, and related activities.

Tentative Agenda:

Thursday, April 3, 2003

• Presentation on the Hanford Systems Assessment Capability (SAC) Tool;

• Discussion and introduction of draft advice on the Proposed Elimination of Technetium-99 (Tc-99) Removal from Tank Waste Pretreatment;

• Presentation and discussion of the DOE-HQ draft policy and guidance on the risk-based end state vision;

• Discussion and introduction of draft advice on FY03, FY04 and FY05 budget;

• Discussion and draft advice on the Disposition of Transuranic Waste in the Tanks;

• Introduction of draft advice on the Hanford Groundwater Strategic Plan (tentative);

• Public comment.

Friday, April 4, 2003.

• Adoption of draft advice:

• Elimination of Technetium-99 (Tc-99) Removal from Tank Waste Pretreatment, FY03, FY04, FY05 budgets, Disposition of Transuranic Waste in the Tanks, Hanford Groundwater Strategic Plan (tentative).

• Update on the Hanford Solid Waste Environmental Impact Statement (HSW EIS)—second draft.

• Status of M-91 Tri-Party Agreement negotiations. (These negotiations focused on the cleanup of DOE Transuranic and Mixed Transuranic Wastes and associated low-level and mixed low-level wastes.)

• Introduction of a letter to the Tri-Party Agreement Agencies on the recent state of the site meetings;

• Additional ground rules;

• Public comment.

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Yvonne Sherman, Department of Energy Richland Operation Office, 825 Jadwin, MSIN A7-75, Richland, WA 99352, or by calling her at (509) 376-1563.

Issued in Washington, DC on February 28, 2003.
Rachel M. Samuel,
Deputy Advisory Committee Management Officer.

[FR Doc. 03-5259 Filed 3-5-03; 8:45 am]

BILLING CODE 6450-01-P